DEPARTMENT OF STATE

[Public Notice 5376]

Announcement of Meetings of the International Telecommunication Advisory Committee

Summary: This notice announces the program of International Telecommunication Advisory Committee meetings to prepare for meetings of the Organization for Economic Co-operation and Development (OECD) WPIE and CISP committee meetings of May 29-31, 2006.

The International Telecommunication Advisory Committee (ITAC) will meet to prepare for the OECD WPIE and CISP meeting on the following dates: May 4, 11, 18, and 25. All meetings will be from 2-4 p.m. and will be held in Room 2533 at the Harry S Truman Building (Main State) 2201 C Street, Washington.

These meetings are open to the public. People planning to attend the meeting should send their clearance information (name, affiliation, SSN and date of birth) to mccorklend@state.gov not less than 24 hours prior to the meeting. Enter through the C Street doors, and be prepared to present a picture ID. Particulars on conference bridges is available from minardje@state.gov, telephone 202 647-3234.

Dated: April 12, 2006.
Anne D. Jillson,
Foreign Affairs Officer, International Communications & Information Policy, Department of State.

[FR Doc. E6-5870 Filed 4-18-06; 8:45 am]

BILLING CODE 4710-07-P